DEPARTMENT OF TRANSPORTATION

Federal Aviation Administration

Aviation Rulemaking Advisory Committee Meeting on Noise Certification Issues

AGENCY: Federal Aviation Administration (FAA), DOT.

ACTION: Notice of meeting.

SUMMARY: The FAA is issuing this notice to advise the public of a meeting of the Federal Aviation Administration Aviation Rulemaking Advisory Committee to discuss noise certification issues.

DATES: The meeting will be held on August 23, 2000, at 8:30 a.m.

ADDRESSES: The meeting will be held at the Federal Aviation Administration, Room 900 W, 800 Independence Ave, SW, Washington, DC.

FOR FURTHER INFORMATION CONTACT: Ms. Angela O. Anderson, (202) 267-9681, Office of Rulemaking (ARM-204), 800 Independence Avenue, SW, Washington, DC 20591.

SUPPLEMENTARY INFORMATION: Pursuant to section 10(a)(2) of the Federal Advisory Committee Act (Pub. L. 92-463; 5 U.S.C. App. II), notice is hereby given of a meeting of the Aviation Rulemaking Advisory Committee (ARAC) to discuss noise certification issues. This meeting will be held August 23, 2000, at 8:30 a.m., at the Federal Aviation Administration. The agenda for this meeting will include the presentation and vote on the NPRM from FAR/JAR Harmonization Working Group for Helicopters. Members of the public may obtain copies of this NPRM by contacting the person listed above under FOR FURTHER INFORMATION CONTACT.

Attendance is open to the interested public but may be limited to the space available. The public must make arrangements in advance to present oral statements at the meeting or may present statements to the committee at any time. Written statements may be presented to the committee at any time by providing 16 copies to the Assistant Chair or by providing the copies at the meeting. If you are in need of assistance or require a reasonable accommodation for the meeting, please contact the person listed under the heading FOR FURTHER INFORMATION CONTACT. In addition, sign and oral interpretation can be made available at the meeting, as well as an assistive listening device, if requested 10 calendar days before the meeting. Arrangements may be made by contacting the person listed under the heading FOR FURTHER INFORMATION CONTACT.

Issued in Washington, DC, on August 2, 2000.
Paul Dykeman,
Assistant Executive Director for Noise Certification Issues, Aviation Rulemaking Advisory Committee.

[FR Doc. 00-20129 Filed 8-8-00; 8:45 am]

BILLING CODE 4910-13-M